DEPARTMENT OF COMMERCE

National Oceanic and Atmospheric Administration

[I.D. 032405A]

Endangered Species; Permits No. 1509 and 1522

AGENCY: National Marine Fisheries Service (NMFS), National Oceanic and Atmospheric Administration (NOAA), Commerce.

ACTION: Issuance of permits.

SUMMARY: Notice is hereby given that Michael Salmon (Permit No. 1509) and Kenneth Lohmann (Permit No. 1522) have been issued permits to take endangered and threatened sea turtles for purposes of scientific research.

ADDRESSES: The permits and related documents are available for review upon written request or by appointment in the following office(s):

Permits, Conservation and Education Division, Office of Protected Resources, NMFS, 1315 East-West Highway, Room 13705, Silver Spring, MD 20910; phone (301)713-2289; fax (301)427-2521; and

Assistant Regional Administrator for Protected Resources, Southeast Region, NMFS, 263 13th Avenue South, St. Petersburg, FL 33701 (tel: 727/824-5312, fax 727/824-5517).

FOR FURTHER INFORMATION CONTACT: Patrick Opay or Ruth Johnson, (301)713-2289.

SUPPLEMENTARY INFORMATION: On March 9, 2005, notice was published in the Federal Register (70 FR 11619) that a request for a scientific research permit to take threatened sea turtles had been submitted by Jeanette Wyneken (Permit No. 1509). Ms. Wyneken subsequently requested that the permit be issued to Michael Salmon. On February 23, 2005, notice was published in the Federal Register (70 FR 8767) that a request for a scientific research permit to take endangered and threatened sea turtles had been submitted by Kenneth Lohmann. The requested permits have been issued under the authority of the Endangered Species Act of 1973, as amended (ESA; 16 U.S.C. 1531 et seq.), and the regulations governing the taking, importing, and exporting of endangered and threatened species (50 CFR parts 222-226).

Michael Salmon, Ph.D., Florida Atlantic University, Dept. of Biological Sciences, 777 Glades Rd., Boca Raton, FL 33431: Permit No. 1509 authorizes Dr. Salmon to take ESA-listed turtles in the waters of Florida. Researchers may capture a total of 80 loggerhead (Caretta caretta) sea turtle hatchlings over a 2-year period. Animals will be tracked, captured by hand or dip net, have a float tether removed from their carapace, and released. A subset of these animals may also be transported to the Gulf Stream if they need help to reach it. The research will investigate whether mis-oriented turtles remain behaviorally competent when released at beach sites and are likely to complete their offshore migration, and whether they are likely to survive and contribute to population recovery.

Kenneth Lohmann, Ph.D., Department of Biology, Wilson Hall, CB#3280, University of North Carolina at Chapel Hill, Chapel Hill, NC 27599: Permit No. 1522 authorizes Dr. Lohmann to annually capture up to 120 loggerhead and 40 green (Chelonia mydas) sea turtle hatchlings over a 5-year period. Turtles will be tracked, captured by hand or dip net, have experimental gear removed, and be released. The research will take place in the waters off the Florida coast as part of magnetic orientation studies of hatchlings.

Dr. Lohmann will also take up to 6 adult loggerhead sea turtles annually over five years. Animals will be tracked and have their float tether removed while at sea in waters off the coast of Florida as part of sea turtle navigation studies.

Issuance of these permits, as required by the ESA, was based on a finding that such permits (1) were applied for in good faith, (2) will not operate to the disadvantage of any endangered or threatened species, and (3) are consistent with the purposes and policies set forth in section 2 of the ESA.

Dated: April 15, 2005.
Stephen L. Leathery,
Chief, Permits, Conservation and Education Division, Office of Protected Resources, National Marine Fisheries Service.

[FR Doc. 05-8033 Filed 4-20-05; 8:45 am]

BILLING CODE 3510-22-S